DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by May 26, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (ADDRESSES above).

Applicant: Shane Siers, University of Missouri, St. Louis, Missouri, PRT-102657.

The applicant requests a permit to import biological samples collected from live wild lemurs (Lemur catta) and (Eulemur fulvus rufus) in Madagascar for the purpose of scientific research.

Applicant: Zoological Society of San Diego, Conservation and Research for Endangered Species, San Diego, California, PRT-100279.

The applicant requests a permit to re-export biological samples collected from live wild black rhinoceros (Diceros bicornis) for the purpose of scientific research.

Dated: April 15, 2005.
Michael L. Carpenter,
Senior Permit Biologist, Branch of Permits, Division of Management Authority.

[FR Doc. 05-8329 Filed 4-25-05; 8:45 am]

BILLING CODE 4310-55-P